DEPARTMENT OF HOMELAND SECURITY

Coast Guard

33 CFR Part 117

[CGD05-05-124]

RIN 1625-AA-09

Drawbridge Operation Regulations; Knapps Narrows, MD

AGENCY: Coast Guard, DHS.

ACTION: Notice of temporary deviation from regulations.

SUMMARY: The Commander, Fifth Coast Guard District, has approved a temporary deviation from the regulations governing the operation of the Route 33/Knapps Narrows Bridge, at mile 0.4, across Knapps Narrows, at Tilghman, Maryland. This deviation allows the drawbridge to remain closed-to-navigation each day from 9 p.m. to 5 a.m., beginning on Monday, October 24 until Friday, October 28, 2005, to facilitate mechanical repairs.

DATES: The deviation is effective from 9 p.m. to 5 a.m. from October 24 until October 28, 2005.

ADDRESSES: Materials referred to in this document are available for inspection or copying at Commander (obr), Fifth Coast Guard District, Federal Building, 1st Floor, 431 Crawford Street, Portsmouth, VA 23704-5004 between 8 a.m. and 4 p.m., Monday through Friday, except Federal holidays. The telephone number is (757) 398-6422. Commander (obr), Fifth Coast Guard District maintains the public docket for this temporary deviation.

FOR FURTHER INFORMATION CONTACT: Bill H. Brazier, Bridge Management Specialist, Fifth Coast Guard District, at (757) 398-6422.

SUPPLEMENTARY INFORMATION: The Route 33/Knapps Narrows Bridge, a bascule-type drawbridge, has a vertical clearance in the closed position to vessels of 7 feet, at mean high water.

Covington Machine and Welding, Inc. (CMW), is the contractor engaged to perform these repairs for the Maryland State Highway Administration (SHA), the bridge owner. CMW, on behalf of SHA, requested a temporary deviation from the operating regulations for the Route 33/Knapps Narrows Bridge, set out in 33 CFR 117.5, that requires to bridge to open promptly and fully for the passage of vessels when a request to open is given.

CMW requested the temporary deviation to close the Route 33/Knapps Narrow Bridge to navigation to facilitate replacing leaking oil seals in the main drive gear reducer and the hydraulic braking system of the draw span. The lift span will be locked in the closed-to-navigation position each day from 9 p.m. to 5 a.m. beginning on Monday, October 24, 2005 until and including Friday, October 28, 2005. At all other times, the bridge will operate in accordance with 33 CFR 117.5.

The Coast Guard has informed the known users of the waterway of the closure periods for the bridge so that these vessels can arrange their transits to minimize any impact caused by the temporary deviation.

In accordance with 33 CFR 117.35(c), this work will be performed with all due speed in order to return the bridge to normal operation as soon as possible. This deviation from the operating regulations is authorized under 33 CFR 117.35.

Dated: October 18, 2005.
Waverly W. Gregory, Jr.,
Chief, Bridge Administration Branch, Fifth Coast Guard District.

[FR Doc. 05-21322 Filed 10-25-05; 8:45 am]

BILLING CODE 4910-15-P